DEPARTMENT OF HEALTH AND HUMAN SERVICES

Administration for Children and Families

Statement of Organization, Functions and Delegations of Authority

Notice is hereby given that under the authority vested in the Assistant Secretary for Children and Families by the memorandum dated October 1, 2003 from the Assistant Secretary for Administration and Management, I hereby redelegate to the Deputy Assistant Secretary for Administration, the following authority:

Authority Delegated

The authority to issue formal grievance decisions on matters under the line of supervision where the Assistant Secretary is the second level supervisor, except in cases where the Deputy Assistant Secretary for Administration is the first level supervisor.

Conditions and Limitations

This delegation excludes those authorities specifically reserved to or by the Secretary in the memorandum dated October 11, 2001.

This authority is to be exercised in accordance with the policies of the Department and the Administration for Children and Families.

Effective Date

This redelegation is effective on the date of signature. I hereby ratify any actions the Deputy Assistant Secretary for Administration may have taken pursuant to this authority prior to the effective date of this redelegation.

Effect on Existing Delegations

None.

Dated: February 10, 2005.
Wade F. Horn, PhD.,
Assistant Secretary for Children and Families.

[FR Doc. 05-3365 Filed 2-18-05; 8:45 am]

BILLING CODE 4184-01-M